DEPARTMENT OF LABOR

Employment and Training Administration

[TA-W-59,388; TA-W-59,388A]

Rose Art Industries Incorporated; Livingston, NJ; Rose Art Industries, LLC; Wood-Ridge, NJ; Notice of Termination of Investigation

Pursuant to section 221 of the Trade Act of 1974, as amended, an investigation was initiated on May 12, 2006 in response to a petition filed by a company official on behalf of workers at Rose Art Industries Incorporated in Livingston and Wood-Ridge, New Jersey.

The petitioner has requested that the petition be withdrawn. Consequently, the investigation has been terminated.

Signed in Washington, DC, this 21st day of June, 2006.
Linda G. Poole,
Certifying Officer, Division of Trade Adjustment Assistance.

[FR Doc. E6-11855 Filed 7-24-06; 8:45 am]

BILLING CODE 4510-30-P